DEPARTMENT OF ENERGY

[Dockets No. EA-166-B]

Application to Export Electric Energy; Duke Energy Trading and Marketing, L.L.C.

AGENCY: Office of Fossil Energy, DOE.

ACTION: Notice of application.

SUMMARY: Duke Energy Trading and Marketing, L.L.C. (DETM) has applied to renew its authority to transmit electric energy from the United States to Mexico pursuant to section 202(e) of the Federal Power Act.

DATES: Comments, protests or requests to intervene must be submitted on or before April 4, 2005.

ADDRESSES: Comments, protests or requests to intervene should be addressed as follows: Office of Coal & Power Import/Export (FE-27), Office of Fossil Energy, U.S. Department of Energy, 1000 Independence Avenue, SW., Washington, DC 20585-0350 (FAX (202) 287-5736).

FOR FURTHER INFORMATION CONTACT: Xavier Puslowski (Program Office) (202) 586-4708 or Michael Skinker (Program Attorney) (202) 586-2793.

SUPPLEMENTARY INFORMATION: Exports of electricity from the United States to a foreign country are regulated and require authorization under section 202(e) of the Federal Power Act (FPA) (16 U.S.C. 824a(e)).

On March 9, 1998, the Office of Fossil Energy (FE) of the Department of Energy (DOE) issued Order EA-166 authorizing DETM to transmit electric energy from the United States to Mexico as a power marketer. On December 22, 1999, in Order No. EA-166-A, FE renewed DTEM's authorization to export electric energy to Canada for a five-year term that expired on December 22, 2004.

On February 9, 2005, DETM filed an application with FE for renewal of the export authority contained in Order No. EA-166-A for an additional five-year term. DTEM proposes to export electric energy to Mexico and to arrange for the delivery of those exports over the international transmission facilities presently owned by San Diego Gas & Electric, El Paso Electric Company, Central Power & Light Company, Sharyland Utilities, and Comision Federal de Electricidad, the national electric utility of Mexico.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the DETM application to export electric energy to Mexico should be clearly marked with Docket EA-166-B. Additional copies are to be filed directly with David W. Wright, Duke Energy Trading and Marketing, L.L.C., 5400 Westheimer Court, Houston, TX 77056, and Gordon J. Smith, Esq., John & Hengerer, 1200 17th Street, NW., Suite 600, Washington, DC 20036.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on February 28, 2005.
Ellen Russell,
Acting Deputy Director, Electric Power Regulation, Office of Fossil Energy.

[FR Doc. 05-4225 Filed 3-3-05; 8:45 am]

BILLING CODE 6450-01-P